DEPARTMENT OF HOMELAND SECURITY

Coast Guard

33 CFR Part 165

[Docket No. USCG-2021-0334]

Safety Zones; Annual Fireworks Displays Within the Captain of the Port Sector Puget Sound

AGENCY: Coast Guard, Department of Homeland Security (DHS).

ACTION: Notice of enforcement of regulation.

SUMMARY: The Coast Guard will enforce fourteen safety zones for annual firework displays in the Captain of the Port Sector Puget Sound Zone from 5 p.m. on July 4, 2021, through 1 a.m. on July 5, 2021. This action is necessary to prevent injury and to protect life and property of the maritime public from the hazards associated with the firework displays. During the enforcement periods, entry into, transit through, mooring, or anchoring within these safety zones is prohibited unless authorized by Captain of the Port Sector Puget Sound or their Designated Representative.

DATES: The regulations in 33 CFR 165.1332 will be enforced for the fourteen safety zones identified in the SUPPLEMENTARY INFORMATION section below from 5 p.m. on July 4, 2021, through 1 a.m. on July 5, 2021.

FOR FURTHER INFORMATION CONTACT: If you have questions about this notice of enforcement, call or email Chief Warrant Officer William Martinez, Sector Puget Sound Waterways Management, Coast Guard; telephone 206-217-6051, SectorPugetSoundWWM@uscg.mil.

SUPPLEMENTARY INFORMATION: The Coast Guard will enforce safety zones in 33 CFR 165.1332 for the following fourteen Annual Fireworks Displays within the Captain of the Port Puget Sound (COTP) Area of Responsibility (AOR). These regulations will be enforced from 5 p.m. on July 4, 2021, through 1 a.m. on July 5, 2021, at the following locations:

Event name | Location | Latitude | Longitude
Tacoma Freedom Fair | Commencement Bay | 47°17.103′ N | 122°28.410′ W
City of Anacortes | Fidalgo Bay | 48°30.016′ N | 122°36.154′ W
Alderbrook Resort & Spa Fireworks | Hood Canal | 47°21.033′ N | 123°04.1′ W
Fireworks Display | Henderson Bay | 47°21.8′ N | 122°38.367′ W
Sheridan Beach Community | Lake Forest Park | 47°44.783′ N | 122°16.917′ W
Kingston Fireworks | Appletree Cove | 47°47.65′ N | 122°29.917′ W
Mukilteo Lighthouse Festival | Possession Sound | 47°56.9′ N | 122°18.6′ W
Brewster Fire Department Fireworks | Brewster | 48°05.362′ N | 119°47.147′ W
Port Angeles | Port Angeles Harbor | 48°07.033′ N | 123°24.967′ W
Friday Harbor Independence | Friday Harbor | 48°32.255′ N | 123°0.654′ W
Roche Harbor Fireworks | Roche Harbor | 48°36.7′ N | 123°09.5′ W
Blast Over Bellingham | Bellingham Bay | 48°44.933′ N | 122°29.667′ W
True Colors Event | Blaine | 48°59.488′ N | 122°46.339′ W
City of Mount Vernon Fireworks | Edgewater Park | 48°25.178′ N | 122°20.424′ W

The special requirements listed in 33 CFR 165.1332(b) apply to the activation and enforcement of these safety zones. All vessel operators who desire to enter the safety zone must obtain permission from the COTP or their Designated Representative by contacting the Coast Guard Sector Puget Sound Joint Harbor Operations Center (JHOC) on VHF Channel 13 or Channel 16 or via telephone at (206) 217-6002. The Coast Guard may be assisted by other Federal, State, or local law enforcement agencies in enforcing this regulation.

In addition to the publication of this document in the Federal Register, the Coast Guard will provide the maritime community with extensive advanced notification of enforcement of these safety zones via the Broadcast Notice to Mariners or Local Notice to Mariners.

Dated: May 20, 2021.
P.M. Hilbert,
Captain, U.S. Coast Guard, Captain of the Port, Sector Puget Sound.

[FR Doc. 2021-11131 Filed 5-25-21; 8:45 am]

BILLING CODE 9110-04-P